DEPARTMENT OF COMMERCE

National Oceanic and Atmospheric Administration

[RTID 0648-XB467]

South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Habitat Protection and Ecosystem-Based Management (Habitat) AP.

DATES: The Habitat AP will meet via webinar on Wednesday November 3, 2021, from 9 a.m. to 4 p.m., and Thursday, November 4, 2021, from 9 a.m. to 12 p.m.

ADDRESSES:

Meeting address: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Habitat AP meeting is open to the public and will be available via webinar as it occurs. Registration is required. Webinar registration information and other meeting materials will be posted to the Council's website at: http://safmc.net/safmc-meetings/current-advisory-panel-meetings/ as it becomes available.

The meeting agenda includes the following: A briefing on recent actions by the Council's Habitat Committee; status of amendment development; review and input on revisions to the Council's Beach Dredge and Fill and Large-Scale Coastal Engineering Policy Statement; review and input on the development of a South Atlantic Fishery Management Council Habitat Blueprint; and a presentation by the Bureau of Ocean Energy Management (BOEM) on Offshore Wind Activities in South Atlantic Region and input on activities.

The AP will also receive updates on the following: NOAA Fisheries South Atlantic Climate Vulnerability Assessment; NOAA Fisheries South Atlantic Ecosystem Status Report; NOAA Fisheries Habitat Conservation Division Essential Fish Habitat (EFH) Consultation on Wind, Ports, and Mitigation Banking; mapping of the Wilmington-East Wind Area by NOAA's National Centers for Coastal Ocean Science; and the East Coast Climate Scenario Planning Initiative.

The AP will develop recommendations as necessary for consideration by the Council's Habitat Protection and Ecosystem-Based Management Committee.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: October 12, 2021.
Tracey L. Thompson,
Acting Deputy Director, Office of Sustainable Fisheries, National Marine Fisheries Service.

[FR Doc. 2021-22559 Filed 10-15-21; 8:45 am]

BILLING CODE 3510-22-P